DEPARTMENT OF THE INTERIOR

National Park Service

[NPS-WASO-NAGPRA-19928; PPWOCRADN0-PCU00RP14.R50000]

Notice of Inventory Completion: University of Oregon Museum of Natural and Cultural History, Eugene, OR

AGENCY: National Park Service, Interior.

ACTION: Notice.

SUMMARY: The University of Oregon Museum of Natural and Cultural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the University of Oregon Museum of Natural and Cultural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Oregon Museum of Natural and Cultural History at the address in this notice by February 8, 2016.

ADDRESSES: Dr. Pamela Endzweig, Director of Collections, Museum of Natural and Cultural History, 1224 University of Oregon, Eugene, OR 97403-1224, telephone (541) 346-5120.

SUPPLEMENTARY INFORMATION: Notice is here given in accordance with the Native American Graves Protection and Repatriation Act (NAGPRA), 25 U.S.C. 3003, of the completion of an inventory of human remains and associated funerary objects under the control of the University of Oregon Museum of Natural and Cultural History, Eugene, OR. The human remains and associated funerary objects were removed from Knik Arm, near Anchorage, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by University of Oregon Museum of Natural and Cultural History professional staff in consultation with representatives of the Knik Tribal Council, Alaska.

History and Description of the Remains

In 1966, human remains representing, at minimum, one individual were removed from the Fisher-Hong Site, about a mile south of the village of Knik, on the edge of an unnamed creek draining White Lake, Alaska, during legally authorized excavations by archeologists from the University of Oregon. No known individual was identified. No associated funerary objects are present.

Based on archeological context and skeletal morphology, the individual described above is determined to be Native American. Based on provenience, the Native American human remains are reasonably believed to be affiliated with the Knik Tribe. Historical documents, ethnographic sources, and oral history indicate that the Knik people have occupied Knik Arm since pre-contact times.

Determinations Made by the University of Oregon Museum of Natural and Cultural History

Officials of the University of Oregon Museum of Natural and Cultural History have determined that:

• Pursuant to 25 U.S.C. 3001(9), the human remains described in this notice represent the physical remains of one individual of Native American ancestry.

• Pursuant to 25 U.S.C. 3001(2), there is a relationship of shared group identity that can be reasonably traced between the Native American human remains and the Knik Tribe, Alaska.

Additional Requestors and Disposition

Lineal descendants or representatives of any Indian tribe or Native Hawaiian organization not identified in this notice that wish to request transfer of control of these human remains should submit a written request with information in support of the request to Dr. Pamela Endzweig, Director of Collections, University of Oregon Museum of Natural and Cultural History, 1224 University of Oregon, Eugene, OR 97403-1224, telephone (541) 346-5120, by February 8, 2016. After that date, if no additional requestors have come forward, transfer of control of the human remains to the Knik Tribe, Alaska, may proceed.

The University of Oregon Museum of Natural and Cultural History is responsible for notifying the Knik Tribe, Alaska, that this notice has been published.

Dated: December 8, 2015.
Amberleigh Malone,
Acting Manager, National NAGPRA Program.

[FR Doc. 2016-00073 Filed 1-6-16; 8:45 am]

BILLING CODE 4312-50-P